SMALL BUSINESS ADMINISTRATION

[Declaration of Disaster #3424]

State of Colorado; Disaster Loan Areas

As a result of the President's major disaster declaration on June 19, 2002, I find that Adams, Alamosa, Arapahoe, Archuleta, Baca, Bent, Boulder, Broomfield, Chaffee, Cheyenne, Clear Creek, Conejos, Costilla, Crowley, Custer, Delta, Denver, Dolores, Douglas, Eagle, Elbert, El Paso, Fremont, Garfield, Gilpin, Grand, Gunnison, Hinsdale, Huerfano, Jefferson, Kiowa, Kit Carson, Lake, La Plata, Las Animas, Lincoln, Mesa, Mineral, Moffat, Montezuma, Montrose, Otero, Ouray, Park, Pitkin, Pueblo, Rio Blanco, Rio Grande, Routt, Saguache, San Juan, San Miguel, Summit, Teller, Washington and Yuma Counties and Broomfield City, Denver City, the Southern Ute Reservation and the Ute Mountain Reservation in the State of Colorado constitute a disaster area due to damages caused by wildfires occurring on April 23, 2002 and continuing. Applications for loans for physical damage as a result of this disaster may be filed until the close of business on August 18, 2002 and for economic injury until the close of business on March 19, 2003 at the address listed below or other locally announced locations: U.S. Small Business Administration, Disaster Area 3 Office, 4400 Amon Carter Blvd., Suite 102, Fort Worth, TX 76155.

In addition, applications for economic injury loans from small businesses located in the following contiguous counties may be filed until the specified date at the above location: Jackson, Larimer, Logan, Morgan, Phillips, Prowers and Weld Counties in the State of Colorado; Apache County in the State of Arizona; Cheyenne, Greeley, Hamilton, Morton, Sherman, Stanton and Wallace Counties in the State of Kansas; Chase and Dundy Counties in the State of Nebraska; Cimarron County in the State of Oklahoma; Colfax, Rio Arriba, San Juan, Taos and Union Counties in the State of New Mexico; Daggett, Grand, San Juan and Uintah Counties in the State of Utah; and Carbon and Sweetwater Counties in the State of Wyoming.

The interest rates are:

| Percent
| For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
| For Economic Injury:
Businesses and small agricultural cooperatives without credit available elsewhere | 3.500

The number assigned to this disaster for physical damage is 342405. For economic injury the number is 9Q1900 for Colorado; 9Q2000 for Arizona; 9Q2100 for Kansas; 9Q2200 for Nebraska; 9Q2300 for Oklahoma; 9Q2400 for New Mexico; 9Q2500 for Utah; and 9Q2600 for Wyoming.

(Catalog of Federal Domestic Assistance Program Nos. 59002 and 59008)
Dated: June 19, 2002.
Herbert L. Mitchell,
Associate Administrator for Disaster Assistance.

[FR Doc. 02-16054 Filed 6-25-02; 8:45 am]

BILLING CODE 8025-01-P